DEPARTMENT OF THE INTERIOR

National Park Service

[NPS-PWR-MOJA-12321; PS.SMOJA0003]

Minor Boundary Revision at Mojave National Preserve

AGENCY: National Park Service, Interior.

ACTION: Notification of boundary revision.

SUMMARY: Notice is hereby given that, pursuant to 16 U.S.C. 460l-9(c)(1), the boundary of Mojave National Preserve is modified to include 7.12 acres of improved land identified as Tract 103-28, a portion of tax parcel number 573-021-02. Fee simple interest in the land will be donated to the United States. The land is located in San Bernardino County, California, immediately adjacent to the current northern boundary of Mojave National Preserve. Notice is further given that, pursuant to 16 U.S.C. 460l-9(c)(1), the boundary of Mojave National Preserve is modified to exclude 48.14 acres of improved land identified as Tract 114-05, a portion of tax parcel number 0544-033-09. No change in ownership will result from this action. The land is located in San Bernardino County, California, at the northwest boundary of the preserve in the unincorporated area of Baker. The boundary revisions are depicted on Map No. 170/115,469 dated October 2012. The map is available for inspection at the following locations: National Park Service, Land Resources Program Center, Pacific West Region, 333 Bush Street, Suite 500, San Francisco, California 94104, and National Park Service, Department of the Interior, Washington, DC 20240.

FOR FURTHER INFORMATION CONTACT: Chief Realty Officer Greg Gress, National Park Service, Pacific Land Resources Program Center, 333 Bush Street, Suite 500, San Francisco, California 94104, telephone (415) 623-2120.

DATES: The effective date of this boundary revision is June 14, 2013.

SUPPLEMENTARY INFORMATION: 16 U.S.C. 460l-9(c)(1) provides that, after notifying the House Committee on Natural Resources and the Senate Committee on Energy and Natural Resources, the Secretary of the Interior is authorized to make this boundary revision upon publication of notice in the Federal Register. The Committees have been notified of this boundary revision. The inclusion of Tract 103-28 will enable the United States to accept a donation of land as compensation for a wastewater pipeline failure and resulting hazardous spill, and to more fully educate the public regarding the desert tortoise life cycle, threats and recovery efforts. The exclusion of Tract 114-05 will resolve an unauthorized land use issue and have no effect on its ownership or use.

Dated: May 23, 2013.
Christine S. Lehnertz,
Regional Director, Pacific West Region.

[FR Doc. 2013-14066 Filed 6-13-13; 8:45 am]

BILLING CODE 4312-FF-P